DEPARTMENT OF AGRICULTURE

Foreign Agricultural Service

Notice of Request for a Revision of a Currently Approved Information Collection

AGENCY: Foreign Agricultural Service, USDA.

ACTION: Notice and request for comments.

SUMMARY: In accordance with the Paperwork Reduction Act of 1995, this notice seeks comments on a proposed revision to the currently approved information collection in support of the Export Sales Reporting program. Specifically, FAS requests public comments regarding whether the collection of the proposed contract by contract information, rather than aggregated sales information, will help improve the timeliness and reliability of the data in USDA's Export Sales Reports; the accuracy of the agency's estimate of the burden of the collection of information including validity of the methodology and assumption used; ways to enhance the quality, utility, and clarity of the information collected; and ways to minimize the burden of the collection of information on those who are to report, including through the use of automated, electronic, mechanical, or other technological collection techniques or other forms of information technology.

DATES: Comments should be submitted no later than July 14, 2023 to be assured of consideration.

ADDRESSES: You may send comments, identified by the OMB Control number 0551-0007, by any of the following methods:

• Federal eRulemaking Portal: Go to http://www.regulations.gov. Follow the online instructions for submitting comments.

• Email: esr@fas.usda.gov. Include OMB Control number 0551-0007 in the subject line of the message.

• Mail, Courier, or Hand Delivery: Amy Harding, U.S. Department of Agriculture, Foreign Agricultural Service, 1400 Independence Avenue SW, Room 5531, Washington, DC 20250.

Instructions: All submissions received must include the agency names and OMB Control Number for this notice.

FOR FURTHER INFORMATION CONTACT: Amy Harding, 202-720-3538, Amy.Harding@usda.gov.

SUPPLEMENTARY INFORMATION:

Title: Export Sales Reporting Program of U. S. Agricultural Commodities.

OMB Number: 0551-0007.

Expiration Date of Approval: October 31, 2023.

Type of Request: Revision of a currently approved information collection.

Abstract: Section 602 of the Agricultural Trade Act of 1978, as amended, (7 U.S.C. 5712) requires the reporting of information pertaining to contracts for export sale of certain specified agricultural commodities that may be designated by the Secretary of Agriculture. In accordance with Section 602, individual reports submitted shall remain confidential and shall be compiled and published in compilation form each week following the week of reporting. Regulations at 7 CFR part 20 provide the reporting requirements and prescribe a system for reporting information pertaining to contracts for export sales.

USDA's electronic reporting system for the collection of information on export sales, also known as the Export Sales Reporting and Maintenance System (ESRMS), was created after the large, unexpected purchase of U.S. wheat and corn by the Soviet Union in 1972. To ensure that all parties involved in the production and export of U.S. grain have access to up-to-date export information, the U.S. Congress mandated an export sales reporting requirement in 1973. Prior to the establishment of the ESRMS, it was difficult for the public to obtain information on export sales activity until the actual shipments had taken place. This frequently resulted in considerable delay in the availability of market information.

Under the ESRMS, U.S. exporters may be required to report daily to the Foreign Agricultural Service information with respect to sales of agricultural commodities as requested. Such daily reports are to be made no later than 3:00 p.m. (Eastern Time) on the next business day after the sale is made. Currently, large sales of certain designated grains, oilseeds and oilseed products are required to be reported daily. The designated commodities for these daily reports are wheat (by class), barley, corn, grain sorghum, oats, soybeans, soybean cake and meal, and soybean oil. Large sales for all above designated commodities except soybean oil are defined as 100,000 metric tons or more of one commodity sold in one day to a single destination or 200,000 tons or more of one commodity sold to one destination during the weekly reporting period. Large sales for soybean oil are 20,000 metric tons or more sold in one day to one destination or 40,000 metric tons or more sold to one destination during any reporting week.

Weekly reports are also required, regardless of the size of the sales transaction, for all these commodities, as well as wheat products, rye, flaxseed, linseed oil, sunflower seed oil, cotton (by staple length), cottonseed, cottonseed cake and meal, cottonseed oil, rice (by class), cattle hides and skins (including cattle, calf, and kip), cattle wet blues, beef, and pork. The reporting week for the ESRMS is Friday-Thursday. The Secretary of Agriculture has the authority to add other commodities to this list.

U.S. exporters currently provide information on the quantity of their sales transactions, the type and class of commodity, the marketing year of shipment, the destination, and shipment information to include vessel name, quantity shipped, and bill of lading date for bulk shipments of wheat, corn, soybeans, barley and sorghum, among other things. They also report any changes in previously reported information, such as cancellations and changes in destinations.

The ESRMS currently requires exporters to manually upload the required data for Export Sales using form FAS 98. In addition, exporters are required to submit form FAS 97 to report Optional Origin Sales and related transactions and form FAS 100 to report Exports Made for Exporters Own Account and related transactions. Reports of contract terms shall be filed when requested, typically quarterly and annually, on form FAS-99, “Contract Terms Supporting Export Sales and Foreign Purchases,” and shall include the following:

(1) Reporting exporter's contract number.

(2) Date of export sale or purchase.

(3) Name of foreign buyer or foreign seller.

(4) Delivery period specified in the export sale or purchase.

(5) Delivery terms specified in the export sale or purchase (F.O.B., C. & F., etc.).

(6) Actual quantity of the export sale or purchase.

(7) Quantity not exported against the sale or foreign purchase (do not include any tolerance).

(8) Country of destination.

(9) On purchases from foreign sellers, show separately from export sales all items of this paragraph.

ESRMS is being upgraded for the first time in over a decade. A business process re-engineering approach was used to analyze and re-design the functionalities and workflows of ESRMS and the Export Sales Reporting (ESR) Query System from the ground up. Processes are being re-structured to improve data quality and operational efficiency. The re-design provides a single automated and consolidated system for all, exporters, users, and USDA staff, to meet mission critical objectives unlike the current systems which are separated into two applications, one for exporters and USDA staff, and another for external users.

The new ESRMS proposes to collect contract-specific sales and export data. The additional data reported will improve USDA's ability to monitor and enforce compliance with reporting requirements and improve the overall quality, reliability, timeliness, and trustworthiness of the data. Contract-specific data will help USDA reconcile export sales reporting with other USDA reports and Customs' export data. Additionally, the contract data will improve USDA's ability to validate the accuracy of reported sales and help identify errant or missing sales and export data.

Although requiring contract-specific reports will increase the number of entries that each exporter submits, the new ESRMS will include an electronic data transfer option allowing exporters a bulk electronic upload option for their export sales contract information via pre-designed CSV or JSON files. The upload of export sales contract information, rather than aggregate sales, provides the basic information needed to track export sales from inception to export. The new ESRMS is open for user testing for those registered exporters who want to experience the usability of the new system at https://esrms.fas.usda.gov/. This bulk electronic data transfer of export sales contract data will replace form FAS-99 Rev. 11-01, Contract Terms Supporting Export Sales and Foreign Purchases, thus creating a time savings later in the year. The new form to be used for weekly Export Sales, Optional Origin Sales, and Export for Exporters Own Account Sales is titled “FAS-ESR Contract Data Upload form.” A copy of the form is provided with this package.

In addition to the data currently required to be submitted, FAS proposes to require data on the following for all commodities reported:

(1) Contract terms (FAS, FOB C&F, etc.) including volumes, destinations, buyers, and dates,

(2) Mode of transportation (e.g., ship, rail, truck, & container),

(3) Mode of transportation identifier (e.g., vessel name, rail name, trucking company name), and

(4) Bill of Lading date.

While an initial increase in exporter administrative activity associated with the addition of specific contract information via the “FAS-ESR Contract Data Upload form” is anticipated, the reporting burden is expected to decline as export companies complete any necessary modifications to their systems to allow their export sales data to be transferred to the new ESRMS via the bulk upload option using CSV or JSON files.

In the case of daily exports above the specified volumes, nothing will change. Exporters will continue to report daily sales using the existing procedures by sending a WORD document to the Export Sales staff as is currently required.

Along with the FAS-ESR Contract Data Upload form, new electronic data transfer forms for contract adjustments, exports, and shipment information have been developed to ultimately decrease the exporters' burden hours involved with entry of records into the new ESRMS. These electronic data entry forms have been designed to reflect reporting transaction types for export sales activities, optional origin activities, and exports for exporters own account activities and replace the need for forms FAS-97 Rev. 11-01, FAS-98 Rev. 11-01, and FAS-100 Rev. 11-01. The proposed new forms include the following:

• FAS-ESR New Contracts (Items 20, 110, 210)

• FAS-ESR Contract Adjustments (Items 20, 40, 50, 110, 150, 240)

• FAS-ESR Weekly Exports (Items 60, 230)

• FAS-ESR Optional Origin Sales (Item 140)

Copies of the forms are provided with this package.

FAS held six open demonstrations of the upgraded ESRMS throughout January, February, and March 2023, for exporters. The electronic data transfer processes were presented and explained thoroughly. Additional demonstrations, virtual training, and user acceptance testing will be held throughout the second and third quarters of fiscal year 2023. Participation in training and testing will assist responders to adequately estimate the burden of reporting the requested information.

The estimated total annual burden may temporarily increase while exporters are familiarizing themselves with the upgrades to ESRMS but then is expected to decline as they take advantage of automated uploading of information.

Estimate of Burden: The average burden, including the time for reviewing instructions, gathering data needed, completing forms, and record keeping is estimated to average 30 minutes once the exporters are familiar with the new system and the bulk upload option.

Respondents: All exporters of wheat and wheat flour, feed grains, oilseeds, cotton, rice, cattle hides and skins, beef, pork, and any products thereof, and other commodities that the Secretary may designate as produced in the United States.

Estimated number of respondents: 416.

Estimated Annual Number of Responses per Respondent: 215.

Estimated Total Annual Reporting Burden: 44,720 hours.

Copies of this information collection can be obtained from Dacia Rogers, the Agency Information Collection Coordinator, at Dacia.Rogers@usda.gov.

Request for Comments: Send comments regarding (a) whether the proposed collection of information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to report, including through the use of automated, electronic, mechanical, or other technological collection techniques or other forms of information technology.

All comments received in response to this notice, including names and addresses when provided, will be a matter of public record. Comments will be available without change, including any personal information provided, for inspection online at https://www.regulations.gov and at the mail address listed above between 8 a.m. and 4:30 p.m., Monday through Friday, except holidays.

Comments will be summarized and included in the submission for OMB approval.

Persons with disabilities who require an alternative means for communication of information (Braille, large print, audiotape, etc.) should contact RARequest@usda.gov.

Daniel Whitley,
Administrator, Foreign Agricultural Service.

[FR Doc. 2023-10250 Filed 5-12-23; 8:45 am]

BILLING CODE 3410-10-P